DEPARTMENT OF THE INTERIOR

Bureau of Land Management

[AK-931-1310-DP]

Draft Northwest National Petroleum Reserve—Alaska Integrated Activity Plan/Environmental Impact Statement

AGENCY: Bureau of Land Management, Interior.

ACTION: Notice.

SUMMARY: In response to a request from the interested public the Bureau of Land Management is adding to its schedule one meeting for accepting public comments on the Draft Northwest National Petroleum Reserve—Alaska Integrated Activity Plan/Environmental Impact Statement (IAP/EIS). The meeting location and time will be provided to the public through appropriate media outlets in the Washington, DC area.

DATES: March 13, 2003, 2 p.m. till 5 p.m.

ADDRESSES: Courtyard Marriott, 1600 Rhode Island Avenue, Northwest, Washington, DC.

FOR FURTHER INFORMATION CONTACT: Curtis J. Wilson (907-271-5546; c1wilson@ak.blm.gov) or Mike Kleven (907-474-2317; mkleven@ak.blm.gov).

SUPPLEMENTARY INFORMATION: The Bureau of Land Management originally published a Notice of Availability for the IAP/EIS that listed public meetings only in Alaska, however, in response to a request from several organizations one meeting has been added to seek public comment in the Washington, DC area.

Dated: February 21, 2003.
Henri R. Bisson,
State Director.

[FR Doc. 03-4818 Filed 2-25-03; 2:55 pm]

BILLING CODE 4310-JA-P